POSTAL SERVICE

39 CFR Part 111

New Marking Standards for Parcels Containing Hazardous Materials

AGENCY: Postal Service™.

ACTION: Proposed rule.

SUMMARY: The Postal Service is proposing to revise Mailing Standards of the United States Postal Service, Domestic Mail Manual (DMM®) 601.10 to adopt new mandatory marking standards for parcels containing mailable hazardous material that will align with the revised requirements provided by the Department of Transportation (DOT). This proposed rule also provides terminology and categorization changes needed to respond to the pending elimination of the “Other Regulated Material” (ORM-D) category and the partial elimination of the “Consumer Commodity” category by the DOT.

DATES: Submit comments on or before October 23, 2012.

ADDRESSES: Mail or deliver written comments to the manager, Product Classification, U.S. Postal Service, 475 L'Enfant Plaza SW., Room 4446, Washington, DC 20260-5015. You may inspect and photocopy all written comments at USPS® Headquarters Library, 475 L'Enfant Plaza SW., 11th Floor North, Washington, DC, by appointment only between the hours of 9 a.m. and 4 p.m., Monday through Friday. Call 202-268-2906 in advance for an appointment. Email comments, containing the name and address of the commenter, may be sent to MailingStandards@usps.gov, with a subject line of “Hazardous Materials.” Faxed comments are not accepted.

FOR FURTHER INFORMATION CONTACT: Kevin Gunther at 202-268-7208.

SUPPLEMENTARY INFORMATION: The Postal Service proposes to revise DMM 601.10, and to make corresponding revisions to Publication 52, Hazardous, Restricted, and Perishable Mail, chapters 2, 3 and 7, and Appendices A and C, to adopt new marking standards for parcels containing mailable hazardous materials. These marking standards were recently added to the DMM for optional use by mailers, as an alternative to the current DMM marking standards for parcels containing mailable hazardous materials.

If this proposal is adopted, the Postal Service will require use of these markings on parcels intended for air and surface transportation. However, the new markings standards will be deferred for parcels intended for surface transportation, to coincide with the delayed implementation date for ground transportation proscribed by the DOT. The new standards, including proposed implementation dates, are summarized below.

Mailers should note that any other marking or documentation requirements not specifically referenced in this proposed rule, including the preparation of a properly completed shipper's declaration, will not be modified or eliminated by any of the revisions described herein.

Background

On January 19, 2011, the DOT's Pipeline and Hazardous Materials Safety Administration (PHMSA) published final rule HM-215K (76 FR 3308-3389), which harmonized the requirements of the U.S. Hazardous Materials Regulations (HMR) with international transport requirements. In its Federal Register final rule, PHMSA signaled its intent to, among other things, eliminate the “Other Regulated Material” (ORM-D) classification for all forms of transportation. This change will become effective on January 1, 2013 for shipments intended for air transportation, and on January 1, 2015 for shipments intended for surface transportation.

In addition to the elimination of the ORM-D category, PHMSA also eliminated the “consumer commodity” category for products in hazard classes 4, 5, and 8, as well as a portion of hazard class 9, for all shipments intended for air transportation. This change will become effective on January 1, 2013. After this date, the mailability of materials previously falling within the “consumer commodity” category must be evaluated based on its eligibility under the limited quantity category in the HMR.

PHMSA expects that the alignment of the existing limited quantity provisions in the HMR with international standards and regulations will enhance safety by facilitating a single uniform system of transporting limited quantity materials. Because of the inherent risk unique to air transportation, PHMSA believes that full harmonization with the International Civil Aviation Organization Technical Instructions (ICAO TI) is necessary with regard to the materials authorized and the guidelines for limited quantities (including consumer commodities) intended for transport by air. The ICAO TI also include specific provisions for air transport of dangerous goods in the mail, which are much more restrictive than the general standards. No dangerous goods are allowed in international mail, with the exception of certain infectious substances, certain patient specimens and certain radioactive materials as noted in section 135 of Mailing Standards of the United States Postal Service, International Mail Manual (IMM®); and these materials may only be sent by authorized mailers for authorized purposes.

Proposed Air Transport Standards for January 1, 2013

The Postal Service plans to align its hazardous materials mailing requirements with those of the DOT Pipeline and Hazardous Materials Safety Administration (PHMSA) by proposing the mandatory use of the marking standards described in this proposed rule on all parcels intended for air transportation. These rules were incorporated into the DMM for optional use on August 6, 2012. If this proposal is adopted these optional markings will become mandatory effective January 1, 2013.

The Postal Service proposes to categorize hazardous materials currently meeting the definition of a mailable ORM-D material within hazard classes 4, 5, or 8, and portions of 9, using the description “mailable limited quantity;” and will retain the description “consumer commodity” for all other mailable hazard classes. If this proposal is adopted, the Postal Service will revise the DMM to replace the current ORM-D category for parcels containing materials intended for air transportation with the applicable “consumer commodity” or the new “mailable limited quantity” categories, effective January 1, 2013.

Under this proposal, mailpieces containing currently authorized air-eligible consumer commodities (ORM-D-AIR) within DOT Class 2.2 (nonflammable, nontoxic gasses), Class 3 (flammable and combustible liquids), Class 6.1 (toxic substances), and Class 9 (miscellaneous) will be reclassified as hazard class 9 (miscellaneous) instead of their previous “ORM-D-AIR” classification. Mailpieces containing this material will also be required to bear the proper shipping name “Consumer Commodity,” the Identification Number “ID8000,” and both the DOT square-on-point marking including the symbol “Y” and an approved DOT class 9 hazardous material warning label. Mailpieces must also bear a shipper's declaration for dangerous goods.

Mailpieces containing mailable air-authorized limited quantity class 9 materials within UN3077, UN3082, UN3175, UN3334 and UN3335, will also be required to bear the proper shipping name “Consumer Commodity,” Identification Number “ID8000,” and both the DOT square-on-point marking including the symbol “Y” and an approved DOT Class 9 hazardous material warning label. These are the only Class 9 materials authorized by the DOT to be shipped under the limited quantity classification by domestic air transportation.

If this proposal is adopted, the Postal Service will also require the use of other DOT hazardous warning labels on packages intended for air transportation, containing materials that meet the current definition of a mailable ORM-D material in hazard class 5.1 (oxidizing substances), hazard class 5.2 (organic peroxides) and hazard class 8 (corrosives). The DOT will not be defining a consumer commodity category for these particular hazard classes. Similarly, the DOT will not be defining a consumer commodity in hazard class 4 (flammable solids); however this will not have an impact for USPS mailers since the Postal Service does not currently permit hazard class 4 materials in its air transportation networks. These mailpieces will also be required to bear the proper shipping name and Identification Number, as identified in Publication 52 Appendix A, both DOT square-on-point marking (including the symbol “Y”) and the appropriate approved DOT hazardous material warning label. Mailpieces must also bear a shipper's declaration for dangerous goods.

Until January 1, 2015, mailable hazardous materials intended for surface transportation will continue to be classified using the ORM-D categorization. Until that time, mailers will have the option of continuing to use the current “ORM-D” marking for materials intended for ground transportation, or using the new DOT-authorized “square-on-point” limited quantity marking on parcels containing mailable hazardous materials.

Proposed Surface Transport Standards for January 1, 2015

The Postal Service plans to implement the final segment of its alignment with PHMSA by proposing the elimination of the optional ORM-D markings and categorization for hazardous materials intended for surface transportation on January 1, 2015. If this proposed rule is adopted, the use of the ORM-D marking will no longer be permitted for use with any materials being tendered for transport within USPS networks, either by surface or air, and all mailpieces containing hazardous materials will be required to be marked using the appropriate DOT square-on-point marking.

Under these proposed standards, mailable limited quantity and mailable consumer commodity materials, when tendered to the Postal Service, must bear an approved DOT square-on-point marking. The use of additional DOT hazardous material warning labels will not be required or permitted on parcels intended for transportation in USPS ground networks.

Comment Period

Note that the Postal Service has established a 20-day comment period for this proposed rule in order to assure there is sufficient time to implement these proposed standards concurrent with the DOT regulations scheduled to become effective January 1, 2013.

Although we are exempt from the notice and comment requirements of the Administrative Procedure Act [5 U.S.C of 553 (b), (c)] regarding proposed rulemaking by 39 U.S.C. 410 (a), we invite public comments on the following proposed revisions to Mailing Standards of the United States Postal Service, Domestic Mail Manual (DMM), incorporated by reference in the Code of Federal Regulations. See 39 CFR Part 111.1.

List of Subjects in 39 CFR Part 111

Administrative practice and procedure, Postal Service.

Accordingly, 39 CFR Part 111 is proposed to be amended as follows:

PART 111—[AMENDED]

1. The authority citation for 39 CFR Part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

600 Basic Standards for All Mailing Services

601 Mailability

* * * * *

10.0 Hazardous Materials

10.1 Definitions

The following definitions apply:

* * * * *

[Revise 10.1c as follows:]

c. ORM-D (Other Regulated Material) material is a limited quantity of a hazardous material that presents a limited hazard during transportation due to its form, quantity, and packaging. Not all hazardous materials permitted to be shipped as a limited quantity can qualify as an ORM-D material. The ORM-D category is only applicable for materials intended for ground transportation. Effective January 1, 2015, the ORM-D category will be eliminated for materials intended for surface transportation. After this date, the mailability of materials previously fitting the description of ORM-D must be evaluated based on its eligibility under the applicable consumer commodity or mailable limited quantity categories.

[Revise 10.1d, Consumer Commodity, by adding a new last sentence as follows:]

d. * * * The consumer commodity category will not apply to materials, intended for air transportation, in hazard classes 4, 5, and 8, and portions of hazard class 9.

[Re-sequence the current 10.1e through 10.1i as the new 10.1f through 10.1j, and add a new item 10.1e as follows:]

e. Mailable Limited Quantity is a hazardous material in hazard class 4, 5 or 8 that presents a limited hazard during transportation (specifically air transport), and is mailable in USPS air networks under certain conditions and in limited quantities.

* * * * *

10.3 USPS Standards for Hazardous Material

[Revise 10.3 as follows:]

The USPS standards generally restrict the mailing of hazardous materials to ORM-D (permitted for surface transportation only until January 1, 2015), and consumer commodity or mailable limited quantity materials that meet USPS quantity limitations and packaging requirements. All exceptions are subject to the standards in 10.0. Detailed information on the mailability of specific hazardous materials is contained in Publication 52, Hazardous, Restricted, and Perishable Mail.

* * * * *

10.4 Hazard Class

* * * * *

Exhibit 10.4 DOT Hazard Classes and Mailability Summary

Class | Hazard class name and division | Transportation method: Domestic mail air transportation | Transportation method: Domestic mail surface transportation | Transportation method: International mail

* * * * *

[Revise text for hazard classes 2 and 3, under the “Domestic Mail Air Transportation” column (only) as follows:]

2 | Gases Division—2.1 Flammable Gases. 2.2 Nonflammable, Nontoxic Gases. 2.3 Toxic Gases. | Division 2.1 and 2.3: Prohibited Division 2.2: Only Consumer Commodity materials per 10.12.2.

3 | Flammable and Combustible Liquids | Flammable liquids: Prohibited Combustibles: Only Consumer Commodity materials per 10.13.3.

* * * * *

[Revise text for hazard classes 5 and 6, under the “Domestic Mail Air Transportation” column (only) as follows:]

5 | Oxidizing Substances, Organic Peroxides Division— 5.1 Oxidizing Substances. 5.2 Organic Peroxides. | Only Mailable Limited Quantity materials per 10.15.2

* * * * *

6 | Toxic Substances and Infectious Substances Division—6.1 Toxic Substances. 6.2 Infectious Substances. | Division 6.1: Only Consumer Commodity materials per 10.16.2. Division 6.2. Only per 10.17.

* * * * *

[Revise text for hazard class 8, under the “Domestic Mail Air Transportation” column (only) as follows:]

8 | Corrosives | Only Mailable Limited Quantity materials per 10.19.2

* * * * *

[Revise text for hazard class 9, under the “Hazard Class Name and Division” and “Domestic Mail Air Transportation” columns (only) as follows:]

9 | Miscellaneous Hazardous Materials ID8000 materials UN3077, UN3082, UN3175, UN3334 or UN3335 materials | Only Consumer Commodity materials per 10.20

* * * * *

10.7 Warning Labels for Hazardous Materials

[Revise 10.7 as follows:]

With few exceptions as noted in these standards, most hazardous materials acceptable for mailing fall within the current Other Regulated Materials (ORM-D) regulations of 49 CFR 173.144 for materials intended for surface transportation, and the consumer commodity or mailable limited quantity categories for materials intended for air transportation. Mailpieces containing mailable hazardous materials intended for transportation by air are required to bear an approved DOT square-on-point marking under 10.8b, and may also be required to bear a specific DOT hazardous material warning label (if required for the hazard class shipped). Mailpieces containing mailable hazardous materials must be marked as required in 10.8, and must bear DOT handling labels (e.g., orientation arrows, magnetized materials) when applicable. Effective January 1, 2015, the ORD-D category will be eliminated for materials intended for surface transportation, and mailpieces containing hazardous materials intended for surface transportation will be required to be marked using the appropriate DOT square-on-point marking. Also after this date, the mailability of materials previously fitting the description of ORM-D must be evaluated based on its eligibility under the applicable consumer commodity or mailable limited quantity categories.

10.8 Package Markings for Hazardous Materials

[Revise 10.8 as follows:]

Unless otherwise noted, each mailpiece containing a mailable hazardous material must be plainly and durably marked on the address side with the required shipping name and UN identification number. Mailpieces containing mailable hazardous materials intended for air transportation must bear a DOT limited quantity square-on-point marking under 8b. Mailpieces containing mailable hazardous materials intended for surface transportation may be entered and marked under the ORM-D category until January 1, 2015. After this date, all parcels containing mailable hazardous materials must bear the appropriate DOT square-on-point marking and other associated markings when required. The following also apply:

a. The use of DOT limited quantity square-on-point markings are required for mailpieces intended for air transportation and optional (until January 1, 2015) for mailpieces intended for surface transportation (see Exhibit 10.8b). The plain square-on-point marking is used for shipments sent by surface transportation, and the square-on-point marking including the symbol “Y” superimposed in the center is used for shipments sent by air transportation. The following also apply:

1. Markings must be durable, legible and readily visible.

2. The marking must be applied on at least one side or one end of the outer packaging. The border forming the square-on-point must be at least 2 mm (0.08 inch) in width and the minimum dimension of each side must be 100 mm (3.94 inches), unless the package size requires a reduced size marking of no less than 50 mm (1.97 inches) on each side.

3. For surface transportation, the top and bottom portions of the square-on-point and the border forming the square-on-point must be black and the center must be white or of a suitable contrasting background. Surface shipments containing qualifying ORM-D materials and bearing the square-on-point limited quantity marking are not required to be marked with the shipping name and identification number.

4. For transportation by aircraft, the top and bottom portions of the square-on-point and the border forming the square-on-point must be black and the center must be white or of a suitable contrasting background. The symbol “Y” must be black and located in the center of the square-on-point and be clearly visible. Mailpieces intended for transport by air must also be marked with the proper shipping name, identification number, and must also display the appropriate DOT hazardous material warning label (only when required for the hazard class shipped) in accordance with Publication 52.

b. The UN identification number is not required on mailpieces containing ORM-D materials and intended for surface transportation. A mailable ORM-D material must be marked on the address side with “ORM-D” (or marked under 10.8a) immediately following, or below the proper shipping name. The proper shipping name for a mailable ORM-D material is “consumer commodity.” The designation “ORM-D” must be placed within a rectangle that is approximately 6.3 mm (¼ inch) larger on each side than the applicable designation. Mailpieces containing ORM-D materials sent as Standard Mail, Parcel Post, Parcel Select, or Package Services must also be marked on the address side as “Surface Only” or “Surface Mail Only.”

* * * * *

10.9 Shipping Papers for Hazardous Materials

* * * Shipping papers are required as follows:

* * * * *

[Revise 10.9a and 10.9b to update product references as follows:]

a. Air transportation requirements. Except for nonregulated materials sent under 10.17.3 or 10.17.8 and diagnostic specimens sent under 10.17.5, mailpieces containing mailable hazardous materials sent at the Express Mail, Priority Mail, First-Class Mail, or First-Class Package Service prices must include a shipping paper.

b. Surface transportation requirements. Except for nonregulated materials sent under 10.17.3 or 10.17.8 and mailable ORM-D materials, mailpieces containing mailable hazardous materials sent at the Standard Mail, Parcel Post, Parcel Select, or Package Services prices must include a shipping paper.

10.10 Air Transportation Prohibitions for Hazardous Materials

[Revise the introductory paragraph of 10.10 to update product references as follows:]

All mailable hazardous materials sent at the Express Mail, Priority Mail, First-Class Mail, or First-Class Package Service prices must meet the requirements for air transportation. The following types of hazardous materials that are prohibited from carriage on air transportation must not be sent at the Express Mail, Priority Mail, First-Class Mail, or First-Class Package Service prices:

* * * * *

10.12 Gases (Hazard Class 2)

* * * * *

10.12.2 Mailability

[Revise the third and fourth sentences of 10.12.2 as follows:]

* * * Flammable gases in Division 2.1 are prohibited in domestic mail via air transportation, but are permitted via surface transportation if the material can qualify as an ORM-D material (or after January 1, 2015, a consumer commodity material) and meet the standards in 10.12.3 and 10.12.4. Nonflammable gases in Division 2.2 are generally permitted in the domestic mail via air or surface transportation if the material can qualify as an ORM-D material when intended for surface transportation, or a consumer commodity material when intended for air transportation, and meet the standards in 10.12.3 and 10.12.4.

* * * * *

10.12.4 Marking

[Revise the second sentence, and add a new third sentence for 10.12.4 as follows:]

* * * For air transportation, packages must bear the DOT square-on-point marking including the symbol “Y,” an approved DOT class 9 hazardous material warning label, Identification Number “ID8000,” and the proper shipping name “Consumer Commodity.” Mailpieces must also bear a shipper's declaration for dangerous goods.

10.13 Flammable and Combustible Liquids (Hazard Class 3)

* * * * *

10.13.2 Flammable Liquid Mailability

[Revise the third sentence of the introductory paragraph of 10.13.2 as follows:]

* * * Other flammable liquid is prohibited in domestic mail via air transportation but is permitted via surface transportation if the material can qualify as an ORM-D material (or after January 1, 2015, a consumer commodity material) and meet the following conditions as applicable:

[Revise 10.13.2a and 2b as follows:]

a. The flashpoint is above 20 °F (-7°C) but no more than 73 °F (23 °C); the liquid is in a metal primary receptacle not exceeding 1 quart, or in another type of primary receptacle not exceeding 1 pint, per mailpiece; enough cushioning surrounds the primary receptacle to absorb all potential leakage; the cushioning and primary receptacle are packed within a securely sealed secondary container that is placed within a strong outer shipping container; and each mailpiece is plainly and durably marked on the address side with “Surface Only” or “Surface Mail Only” and “ORM-D” immediately following or below the proper shipping name (or with a DOT square-on-point marking under 10.8b).

b. The flashpoint is above 73 °F (23 °C) but less than 100 °F (38 °C); the liquid is in a metal primary receptacle not exceeding 1 gallon, or in another type of primary receptacle not exceeding 1 quart, per mailpiece; enough cushioning surrounds the primary receptacle to absorb all potential leakage; the cushioning and primary receptacle are placed within a securely sealed secondary container that is placed within a strong outer shipping container; and each mailpiece is plainly and durably marked on the address side with “Surface Only” or “Surface Mail Only” and “ORM-D” immediately following or below the proper shipping name (or with a DOT square-on-point marking under 10.8b).

10.13.3 Combustible Liquid Mailability

[Revise the second sentence of the introductory paragraph of 10.13.3 as follows:]

* * * Combustible liquid is permitted in domestic mail if the material can qualify as an ORM-D material, when intended for ground transportation or a consumer commodity material, when intended for air transportation, and meet the following conditions as applicable:

[Revise 10.13.3a as follows:]

a. For surface transportation, if the flashpoint is 100 °F (38 °C) but no more than 141 °F (60.5 °C); the liquid is in a metal primary receptacle not exceeding 1 gallon, or in another type of primary receptacle not exceeding 1 quart, per mailpiece; enough cushioning surrounds the primary receptacle to absorb all potential leakage; the cushioning and primary receptacle are packed in a securely sealed secondary container that is placed within a strong outer shipping container; and each mailpiece is plainly and durably marked on the address side with “Surface Only” or “Surface Mail Only” and “ORM-D” immediately following or below the proper shipping name (or with a DOT square-on-point marking under 10.8b).

[Revise 10.13.3b as follows:]

b. For surface or air transportation, if the flashpoint is above 141 °F (60.5 °C) but no more than 200 °F (93 °C); the liquid is in a primary receptacle not exceeding 1 gallon per mailpiece; enough cushioning surrounds the primary receptacle to absorb all potential leakage; the cushioning and primary receptacle are packed in a securely sealed secondary container that is placed within a strong outer shipping container. For surface transportation, each mailpiece must be plainly and durably marked on the address side with “ORM-D” immediately following or below the proper shipping name; and each piece must be marked on the address side as “Surface Only” or “Surface Mail Only” (or with a DOT square-on-point marking under 10.8b). For air transportation, packages must bear the DOT square-on-point marking including the symbol “Y,” an approved DOT class 9 hazardous material warning label, Identification Number “ID8000,” the proper shipping name “Consumer Commodity,” and a shipper's declaration for dangerous goods.

* * * * *

10.14 Flammable Solids (Hazard Class 4)

* * * * *

10.14.2 Mailability

[Revise the last sentence of 10.14.2 as follows:]

* * * A flammable solid that can qualify as an ORM-D material (or after January 1, 2015, a mailable limited quantity material) is permitted in domestic mail via surface transportation if the material is contained in a secure primary receptacle having a weight of 1 pound or less; the primary receptacle(s) is packed in a strong outer shipping container with a total weight of 25 pounds or less per mailpiece; and each mailpiece is plainly and durably marked on the address side with “Surface Only” or “Surface Mail Only” and “ORM-D” immediately following or below the proper shipping name (or with a DOT square-on-point marking under 10.8b).

* * * * *

10.15 Oxidizing Substances, Organic Peroxides (Hazard Class 5)

* * * * *

10.15.2 Mailability

[Revise 10.15.2 as follows:]

Oxidizing substances and organic peroxides are prohibited in international mail. Class 5 materials are permitted in domestic mail if the material can qualify as an ORM-D material (until January 1, 2015), when intended for ground transportation; or a mailable limited quantity material, when intended for air transportation. Liquid materials must be enclosed within a primary receptacle having a capacity of 1 pint or less; the primary receptacle(s) must be surrounded by absorbent cushioning material and held within a leak-resistant secondary container that is packed within a strong outer shipping container. Solid materials must be contained within a primary receptacle having a weight capacity of 1 pound or less; the primary receptacle(s) must be surrounded with cushioning material and packed within a strong outer shipping container. Each mailpiece may not exceed a total weight of 25 pounds. For surface transportation, each mailpiece must be plainly and durably marked on the address side with “ORM-D” immediately following or below the proper shipping name; and each piece must be marked on the address side as “Surface Only” or “Surface Mail Only” (or with a DOT square-on-point marking under 10.8b). For air transportation, packages must bear the DOT square-on-point marking including the symbol “Y,” the appropriate approved DOT class 5.1 or 5.2 hazardous material warning label, the identification number, the proper shipping name, and a shipper's declaration for dangerous goods.

10.16 Toxic Substances (Hazard Class 6, Division 6.1)

* * * * *

10.16.2 Mailability

[Revise the second sentence of 10.16.2 as follows:]

* * * For domestic mail, a Division 6.1 toxic substance or poison that can qualify as an ORM-D material (until January 1, 2015) when intended for ground transportation, or a consumer commodity material when intended for air transportation, is permitted when packaged under the applicable requirements in 10.16.4. * * *

* * * * *

10.16.4 Packaging and Marking

The following requirements must be met, as applicable:

[Revise 16.4a as follows:]

a. A toxic substance that can qualify as an ORM-D material (until January 1, 2015) when intended for ground transportation, or a consumer commodity material when intended for air transportation, and does not exceed a total capacity of 8 ounces per mailpiece is permitted if: the material is held in a primary receptacle(s); enough cushioning material surrounds the primary receptacle to absorb all potential leakage; the cushioning and primary receptacle(s) are packed in another securely sealed secondary container that is placed within a strong outer shipping container. For surface transportation, each mailpiece must be plainly and durably marked on the address side with “ORM-D” immediately following or below the proper shipping name; and each piece must be marked on the address side as “Surface Only” or “Surface Mail Only” (or with a DOT square-on-point marking under 10.8b). For air transportation, packages must bear the DOT square-on-point marking including the symbol “Y,” an approved DOT class 9 hazardous material warning label, Identification Number “ID8000,” the proper shipping name “Consumer Commodity,” and a shipper's declaration for dangerous goods.

* * * * *

10.19 Corrosives (Hazard Class 8)

* * * * *

10.19.2 Mailability

[Revise the second sentence of the introductory paragraph of 10.19.2 as follows:]

* * * A corrosive that can qualify as an ORM-D material (until January 1, 2015), when intended for ground transportation; or a mailable limited quantity material, when intended for air transportation, is permitted in domestic mail via air or surface transportation subject to these limitations:

* * * * *

10.19.3 Marking

[Revise 10.19.3 as follows:]

For surface transportation, each mailpiece must be plainly and durably marked on the address side with “ORM-D” immediately following or below the proper shipping name; and each piece must be marked on the address side as “Surface Only” or “Surface Mail Only” (or with a DOT square-on-point marking under 10.8b). For air transportation, packages must bear the DOT square-on-point marking including the symbol “Y,” the appropriate approved DOT class 8 hazardous material warning label, the identification number, the proper shipping name, and a shipper's declaration for dangerous goods.

* * * * *

10.20 Miscellaneous Hazardous Materials (Hazard Class 9)

* * * * *

10.20.2 Mailability

[Revise the second sentence of 10.20.2 as follows:]

* * * A miscellaneous hazardous material that can qualify as an ORM-D material (until January 1, 2015) when intended for ground transportation, or a consumer commodity material when intended for air transportation, is permitted for domestic mail via air or surface transportation, subject to the applicable 49 CFR requirements.

10.20.3 Marking

[Revise 10.20.3 as follows:]

For surface transportation, the mailpiece must be plainly and durably marked on the address side with “Surface Only” or “Surface Mail Only” and “ORM-D” immediately following or below the proper shipping name (or with a DOT square-on-point marking under 10.8b). For air transportation, packages must bear the DOT square-on-point marking including the symbol “Y,” an approved DOT class 9 hazardous material warning label, Identification Number “ID8000,” the proper shipping name “Consumer Commodity,” and a shipper's declaration for dangerous goods.

* * * * *

We will publish an appropriate amendment to 39 CFR Part 111 to reflect these changes if our proposal is adopted.

Stanley F. Mires,
Attorney, Legal Policy & Legislative Advice.

[FR Doc. 2012-24296 Filed 10-2-12; 8:45 am]

BILLING CODE 7710-12-P